DEPARTMENT OF COMMERCE

National Oceanic and Atmospheric Administration

50 CFR Part 648

[Docket No. 010208032-1109-02; I.D.121200L]

RIN 0648-AM47

Fisheries of the Northeastern United States; Final 2001 Specifications for the Atlantic Bluefish Fishery; Regulatory Amendment

AGENCY: National Marine Fisheries Service (NMFS), National Oceanic and Atmospheric Administration (NOAA), Commerce.

ACTION: Final 2001 specifications for the Atlantic bluefish fishery; regulatory amendment.

SUMMARY: NMFS issues 2001 specifications for the Atlantic bluefish fishery, including total allowable harvest levels (TAL), state-by-state commercial quotas, and recreational harvest limits and possession limits for Atlantic bluefish off the east coast of the United States. NMFS also amends the regulations implementing the Fishery Management Plan for Atlantic Bluefish (FMP) to insert an inadvertently omitted paragraph in the procedure for annually setting TAL. This action is necessary to conserve and manage the bluefish resource and is intended to provide for sustainable fisheries.

DATES: The 2001 TAL, commercial quotas, and recreational harvest limits are effective May 9, 2001 through December 31, 2001.

The amendment to § 648.160 is effective June 8, 2001.

The amendment to § 648.164 is effective May 9, 2001.

ADDRESSES: Copies of supporting documents, including the Environmental Assessment, Regulatory Impact Review, Pre Regulatory Economic Evaluation (EA/RIR/PREE), and the Essential Fish Habitat Assessment are available from: Patricia A. Kurkul, Regional Administrator, Northeast Region, National Marine Fisheries Service, One Blackburn Drive, Gloucester, MA 01930-2298. The EA/RIR/PREE are accessible via the Internet at http:/www.nero.gov/ro/doc/nr.htm.

FOR FURTHER INFORMATION CONTACT: Myles Raizin, Fishery Policy Analyst, (978) 281-9104, e-mail at Myles.A.Raizin@noaa.gov, fax at (978) 281-9135.

SUPPLEMENTARY INFORMATION: NMFS implemented the FMP through regulations at 50 CFR part 648, subparts A and J. Section 648.160 requires annual specifications. The FMP, as adopted by the Mid-Atlantic Fishery Management Council (Council) requires that the Council recommend, on an annual basis, TAL, which is composed of a commercial quota and a recreational harvest limit. NMFS published a proposed rule to establish the 2001 bluefish specifications and insert an inadvertently omitted paragraph into § 648.160 at 66 FR 10983, February 21, 2001, with a comment period ending March 23, 2001.

Final Specifications

2001 TAL

The FMP requires that the TAL for any given year be set based on the fishing mortality rate (F) resulting from the stock rebuilding schedule contained in Amendment 1 to the FMP (F=0.41 for 2001) or on the estimated F for the fishing year preceding the Council submission of the recommended specifications, whichever F is lower. The 1999 bluefish fishery data were the most recent data that were complete when the specification process began for the 2001 bluefish fishery. Because the 1999 fishery produced an F of only 0.295 (equals a 33 percent exploitation rate for the bluefish fishery), the TAL is set to maintain this F in 2001. Therefore, the TAL for 2001 is 37.84 million lb (17.17 million kg), which equals 33 percent of the estimated biomass for 2001 (114.62 million lb (52.0 million kg). By basing the bluefish TAL for 2001 on an F value of 0.295, this action prevents overfishing of the Atlantic bluefish stock. According to the current overfishing definition fo this fish stock, F values less than 0.4 prevent overfishing.

2001 Commercial Quotas and Recreational Harvest Limits

The FMP requires that a total of 17 percent of the TAL be allocated to the commercial fishery, as a quota, with the remaining 83 percent allocated as a recreational harvest limit. This would result in a commercial allocation of 6.43 million lb (2.92 million kg) and a recreational harvest limit of 31.41 million lb (14.25 million kg). However, the FMP also specifies that if 17 percent of the TAL is less than 10.50 million lb (4.8 million kg) and the recreational fishery is not projected to land its harvest limit for the upcoming year, the commercial fishery may be allocated up to 10.50 million lb (4.8 million kg) as its quota, provided that the combination of the projected recreational landings and the commercial quota does not exceed TAL.

Since recreational landings from 1995 through 1999 ranged between 8.3 and 14.7 million lb (3.76 and 6.67 million kg), well below the recreational harvest limit for 2001, the Council relied on the foregoing provision. This action establishes a commercial quota of 9.58 million lb (4.35 million kg) for 2001, which maintains the 2001 quota at the level specified in 2000 by the Atlantic States Marine Fisheries Commission. Under the FMP, this required transferring 3.15 million lb (1.43 million kg) from the initial 2001 recreational allocation of 31.41 million lb (14.25 million kg), leaving 28.26 million lb (12.82 million kg) for the 2001 recommended harvest limit. The 2001 commercial quotas are unchanged from the 2000 quotas implemented by the states under the Interstate Fishery Management Plan for Atlantic Bluefish, so no significant economic impacts are expected. The 2001 state commercial quotas are listed in the table below.

State | Percent of quota | 2001 commercial quota (lb) | 2001 commercial quota (kg)
ME | 0.6685 | 64,062 | 29,066
NH | 0.4145 | 39,701 | 18,023
MA | 6.7167 | 643,661 | 292,042
RI | 6.8081 | 652,420 | 296,016
CT | 1.2663 | 121,350 | 55,059
NY | 10.3851 | 995,204 | 451,544
NJ | 14.8162 | 1,419,836 | 644,209
DE | 1.8782 | 179,988 | 81,664
MD | 3.0018 | 287,662 | 130,518
VA | 11.8795 | 1,138,412 | 516,521
NC | 32.0608 | 3,072,386 | 1,394,005
SC | 0.0352 | 3,373 | 1,530
GA | 0.0095 | 910 | 413
FL | 10.0597 | 964,021 | 437,396
Total | 100.000 | 9,583,010 | 4,348,008

Recreational Possession Limit for 2001

The Council made a 2-year projection of the bluefish stock biomass using an assumed F of 0.295. Results indicate that the bluefish stock will increase from an estimated biomass of 78,919,680 lb (35,840 mt) in 2000 to 114,481,980 lb (51,990 mt) in 2001, and 153,523,440 lb (69,720 mt) in the year 2002. The projection predicts the stock will increase substantially in the next 2 years, with commensurate increases in the recreational harvest limit. However, recreational landings have decreased from 14,302 mt (31,521,608 lb) in 1997 to 12,334 mt (27,184,136 lb) in 1998 and 8,253 mt (18,189,612 lb) in 1999. Therefore, NMFS is increasing the possession limit from 10 to 15 fish in 2001. NMFS expects this increase to benefit some recreational anglers without exceeding the recreational harvest limit of 28.26 million lb (12.82 million kg).

Regulatory Amendment

During rulemaking to implement Amendment 1 to the FMP, NMFS inadvertently omitted a portion of the regulatory text in § 648.160(a) necessary to specify the procedures for setting annual TAL. The regulatory text needs to reflect the FMP requirement, found in section 3.1.1.2 of Amendment 1, that the Council use the estimated F for the fishing year preceding the Council submission of the recommended specifications for setting TAL if the estimated F is less than the target F identified in the rebuilding schedule. NMFS approved the portion of Amendment 1 containing this requirement on July 29, 1999.

Changes from Proposed Rule

When publishing the proposed rule, NMFS mistakenly omitted the regulatory text in § 648.164 that specifies the bluefish possession limit. This final rule revises the regulatory text consistent with the increase in the possession limit from 10 fish per person to 15 fish per person.

Comments and Responses

No comments were received during the public comment period for the proposed rule.

Classification

This final rule has been determined to be not significant for purposes of Executive Order 12866.

The Chief Counsel for Regulation of the Department of Commerce certified to the Chief Counsel for Advocacy of the Small Business Administration that this rule would not have a significant impact on a substantial number of small entities. The factual basis for that determination was provided in the proposed rule for this action. No comments were received regarding the economic effects of this action; accordingly, the factual basis for this certification has not changed. Therefore, a regulatory flexibility analysis under the Regulatory Flexibility Act was not required and none was prepared.

The Assistant Administrator for Fisheries, NOAA, under 5 U.S.C. 553(d)(5), finds good cause not to delay the effective date of the 2001 fishery specifications contained in this final rule. This rule establishes only a commercial quota and recreational possession limits, which are used to control the harvest in this fishery, but establishes any requirements for which a regulatory entity must come into compliance. This fishery commenced on January 1, 2001. In addition, the increase in the recreational harvest limit from 10 to 15 fish relieves a restriction.

List of Subjects in 50 CFR Part 648

Fisheries, Fishing, Reporting and recordkeeping requirements.

Dated: May 3, 2001.
William T. Hogarth,
Acting Assistant Administrator for Fisheries, National Marine Fisheries Service.

For the reasons set out in the preamble, 50 CFR part 648, chapter VI, is amended as follows:

PART 648—FISHERIES OF THE NORTHEASTERN UNITED STATES

1. The authority citation for part 648 continues to read as follows:

Authority: 16 U.S.C. 1801 et seq.

2. In § 648.160, paragraph (a) is revised to read as follows:

§ 648.160 Catch quotas and other restrictions.

* * * * *

(a) Annual review. On or before August 15 of each year, the Bluefish Monitoring Committee will meet to determine the total allowable level of landings (TAL) and other restrictions necessary to achieve the target fishing mortality rate (F) specified in the Fishery Management Plan for Atlantic Bluefish for the upcoming fishing year or the estimated F for the fishing year preceding the Council submission of the recommended specifications, whichever F is lower. In determining the TAL and other restrictions necessary to achieve the specified F, the Bluefish Monitoring Committee will review the following data, subject to availability: Commercial and recreational catch data; current estimates of fishing mortality; stock status; recent estimates of recruitment; virtual population analysis results; levels of noncompliance by fishermen or individual states; impact of size/mesh regulations; sea sampling data; impact of gear other than otter trawls and gill nets on the mortality of bluefish; and any other relevant information.

* * * * *

3. In § 648.164, the first sentence of paragraph (a) is revised to read as follows:

§ 648.164 Possession restrictions.

(a) No person shall possess more than 15 bluefish in, or harvested from, the EEZ unless that person is the owner or operator of a fishing vessel issued a bluefish commercial permit or is issued a bluefish dealer permit. * * *

* * * * *

[FR Doc. 01-11701 Filed 5-8-01; 8:45 am]

BILLING CODE 3510-22-S